NUCLEAR REGULATORY COMMISSION

Material Control and Accounting at Reactors and Wet Spent Fuel Storage Facilities

AGENCY: Nuclear Regulatory Commission.

ACTION: Notice of issuance.

SUMMARY: The Nuclear Regulatory Commission (NRC) has issued Bulletin (BL) 2005-01 to all holders of operating licenses for nuclear power reactors, decommissioning nuclear power reactor sites storing spent fuel in a pool, and wet spent fuel storage sites. This bulletin contains sensitive information relating to material control and accounting (MC&A) programs and is, therefore, being withheld from public disclosure in accordance with 10 CFR 2.390. The bulletin is being provided to only those licensees needing to respond to it.

DATES: The bulletin was issued on February 11, 2005.

ADDRESSES: Not applicable.

FOR FURTHER INFORMATION CONTACT: Martha Williams, at 301-415-7878, Glenn Tuttle, at 301-415-7644, or Dori Votolato, at 301-415-7633.

Dated at Rockville, Maryland, this 28th day of February 2005.
For the Nuclear Regulatory Commission.
Patrick L Hiland,
Chief, Reactor Operations Branch, Division of Inspection Program Management, Office of Nuclear Reactor Regulation.

[FR Doc. 05-4313 Filed 3-4-05; 8:45 am]

BILLING CODE 7590-01-P